DEPARTMENT OF THE INTERIOR

Fish and Wildlife Service

Notice of Availability of the Revised Recovery Plan for the Whooping Crane (Grus americana)

AGENCY: Fish and Wildlife Service, Interior.

ACTION: Notice of document availability.

SUMMARY: The U.S. Fish and Wildlife Service (Service) announces the availability of the revised Recovery Plan for the Whooping Crane (Grus americana). This is the third revision of the recovery plan for this species; the original was completed in 1980. The whooping crane is found in the United States east of the Rocky Mountains and in central Canada. This revision to the recovery plan was developed by an international team and will be jointly adopted by the United States and Canada.

ADDRESSES: Copies of the recovery plan on CD may be obtained from the Whooping Crane Coordinator, U.S. Fish and Wildlife Service, Aransas National Wildlife Refuge, P.O. Box 100, Austwell, Texas 77950, or the plan may be downloaded from the Internet at http://www.fws.gov/endangered (type “whooping crane” in the species search field).

FOR FURTHER INFORMATION CONTACT: Tom Stehn, USFWS Whooping Crane Coordinator, Aransas National Wildlife Refuge, P.O. Box 100, Austwell, Texas 77950; telephone (361) 286-3559, ext. 221, facsimile (361) 286-3722, e-mail: Tom_Stehn@fws.gov.

SUPPLEMENTARY INFORMATION:

Background

Restoring an endangered or threatened animal or plant to the point where it is again a secure, self-sustaining member of its ecosystem is a primary goal of the Service's endangered species program. To help guide the recovery effort, the Service is working to prepare recovery plans for most of the listed species native to the United States. Recovery plans describe actions considered necessary for conservation of species, establish criteria for downlisting or delisting them, and estimate time and cost for implementing the recovery measures needed.

The Endangered Species Act of 1973 (Act), as amended (16 U.S.C. 1531 et seq.) requires the development of recovery plans for listed species unless such a plan would not promote the conservation of a particular species. Section 4(f) of the Act, as amended in 1988, requires that public notice and an opportunity for public review and comment be provided during recovery plan development. The Service considers all information provided during a public comment period prior to approval of each new or revised recovery plan. The Service and others take these comments into account in the course of implementing recovery plans.

In the United States, the whooping crane (Grus americana) was listed as Threatened with Extinction in 1967 and Endangered in 1970—both listings were “grandfathered” into the Endangered Species Act of 1973. Critical habitat was designated in 1978. In Canada, it was designated as Endangered in 1978 by the Committee on the Status of Endangered Wildlife in Canada; critical habitat in Canada will be designated upon publication of the final recovery strategy on the Species at Risk Act public registry.

Whooping cranes occur only in North America. Approximately 343 individuals exist in the wild at 3 locations, and 135 whooping cranes are in captivity at 9 sites. Only the Aransas—Wood Buffalo National Park population (AWBP) that nests in Canada and winters in coastal marshes in Texas is self-sustaining, with approximately 220 in the flock. With so few individuals surviving, the population remains in danger of extinction. Historic population declines resulted from habitat destruction, shooting, and displacement by activities of man. Current threats include limited genetics, loss and degradation of migration stopover habitat, collisions with power lines, and degradation of coastal habitat and threat of chemical spills.

The revised recovery plan includes scientific information about the species and provides objectives and actions needed to downlist the species. Recovery actions designed to achieve these objectives include protection and enhancement of the breeding, migration, and wintering habitat for the AWBP to allow the wild flock to grow and reach ecological and genetic stability; reintroduction and establishment of geographically separate self-sustaining wild flocks to ensure resilience to catastrophic events; and maintenance of a captive breeding flock to protect against extinction that is genetically managed to retain a minimum of 90 percent of the whooping crane's genetic material for 100 years.

The current recovery goal is to reclassify (downlist) the species from endangered to threatened status. Criteria to delist the species are not being proposed at this time because the status and biology of the species dictate that considerable time (over 20 years) is needed to reach downlisting goals. Additional threats are expected to arise and will have to be overcome before downlisting occurs. Additional information is also needed on the conservation biology of small populations, including a determination of effective population size (Ne) for whooping cranes to maintain genetic viability over the long-term, and impacts of stochastic and catastrophic events on population survival. Delisting criteria will be established, as appropriate, in a subsequent revision of, or amendment to, this recovery plan.

Downlisting can be achieved when (1) There are a minimum of 40 productive pairs in the AWBP and 25 productive pairs in each of two additional self-sustaining populations, or (1A) there are 100 productive pairs in the AWBP and 30 productive pairs in a second self-sustaining population, or (1B) there are 250 productive pairs in the AWBP, and (2) there are at least 21 productive pairs in the captive population.

This revision to the recovery plan was developed by an international recovery team, and will be jointly adopted by the United States and Canada.

Authority

The authority for this action is Section 4(f) of the Endangered Species Act, 16 U.S.C. 1533(f).

Dated: July 21, 2006.
Benjamin N. Tuggle,
Acting Regional Director, Region 2.

Editorial Note: This document was received at the Office of the Federal Register on May 22, 2007.

[FR Doc. E7-10099 Filed 5-25-07; 8:45 am]

BILLING CODE 4310-55-P